DEPARTMENT OF ENERGY

[FE Docket Nos. 00-18-NG, 00-12-NG, 99-110-LNG, 00-20-NG, 00-17-NG, 00-22-NG, 99-88-NG, 00-21-NG, 00-24-NG, 00-23-NG, 00-25-NG]

Office of Fossil Energy; Ductos de Nogales, USA, LLC., Et Al.; Orders Granting or Amending Authority To Import and Export Natural Gas, Including Liquefied Natural Gas

AGENCY: Office of Fossil Energy, DOE.

ACTION: Notice of Orders.

SUMMARY: The Office of Fossil Energy (FE) of the Department of Energy gives notice that during April 2000, it issued Orders granting or amending authority to import and export natural gas, including liquefied natural gas. These Orders are summarized in the attached appendix and may be found on the FE web site at http://www.fe.doe.gov, or on the electronic bulletin board at (202) 586-7853. They are also available for inspection and copying in the Office of Natural Gas & Petroleum Import & Export Activities, Docket Room 3E-033, Forrestal Building, 1000 Independence Avenue, S.W., Washington, D.C. 20585, (202) 586-9478. The docket room is open between the hours of 8 a.m. and 4:30 p.m., Monday through Friday, except Federal holidays.

Issued in Washington, D.C., on May 9, 2000.
John W. Glynn,
Manager, Natural Gas Regulation, Office of Natural Gas & Petroleum Import & Export Activities, Office of Fossil Energy.

Appendix_Orders Granting and Amending Import/Export Authorizations

Order No. | Date issued | Importer/Exporter FE Docket No. | Import volume | Export volume | Comments
1578 | 04/07/00 | Ductos de Nogales, USA, LLC.— 00- 18-NG> | 6.2 Bcf |  | Export to Mexico over a two-year term beginning on the date of first delivery.
1579 | 04/10/00 | C&L Petroleum Services Company— 00-12-NG | 400 Bcf |  | Import and export a combined total from and to Canada and Mexico over a two-year term beginning on the date of first import or export delivery.
1580 | 04/10/00 | Phillips Alaska Natural Gas Corporation and Marathon Oil Company—99-110-LNG |  | 10 Bcf | Export LNG from Alaska to international markets over a two-year term beginning on the date of first delivery.
1581 | 04/14/00 | Anadarko Energy Services Company—00-20-NG | 50 Bcf |  | Import and export a combined total from and to Canada beginning on May 1, 2000, and extending through April 30, 2000.
1582 | 04/14/00 | Entergy Power Marketing Corp.—00-17-NG | 800 Bf |  | Import and export a combined total from and to Canada and Mexico beginning on May 1, 2000, and extending through April 30, 2000.
1583 | 04/14/00 | Kimball Energy Corporation—00-22-NG | 75 Bcf |  | Import from Canada beginning on April 1, 2000, and extending through March 31, 2000.
1536-A | 04/19/00 | PanCanadian Energy Services, Inc.—99-88-NG |  |  | Amend current authority to: (1) increase the volumes; (2) include import of LNG from international sources; and (3) import and export from and to Mexico.
1584 | 04/17/00 | St. Clair Pipelines (1996) LTD.—00-21-NG 200 | 200 Bcf |  | Import and export from and to Canada beginning on April 17, 2000, and extending through April 16, 2002.
1585 | 04/21/00 | Alcoa, Inc.—00-24-NG | 13.4 Bcf |  | Import from Canada beginning on May 1, 2000, and extending through April 30, 2001.
1586 | 04/24/00 | ARCO Products Company—00-23-NG | 25 Bcf |  | Import from Canada beginning on September 19, 2000, and extending through September 18, 2002.
1587 | 04/27/00 | Agave Energy Company—00-25-NG | 40 Bcf |  | Import and export a combined total from and to Mexico, over a two-year term beginning on the date of first import or export delivery.

[FR Doc. 00-12113 Filed 5-12-00 8:45 am]

BILLING CODE 6450-01-P